DEPARTMENT OF TRANSPORTATION

Federal Highway Administration

Buy America Waiver Notification

AGENCY: Federal Highway Administration (FHWA), DOT.

ACTION: Notice.

SUMMARY: This notice provides information regarding FHWA's finding that a Buy America waiver is appropriate for the use of non-domestic iron and steel components in four rolling elements of bearing units with 17.3” inner diameter and radial load capacity of 816,000 lb. each for I-5 trunnion shaft replacement project in the State of Oregon.

DATES: The effective date of the waiver is November 22, 2016.

FOR FURTHER INFORMATION CONTACT: For questions about this notice, please contact Mr. Gerald Yakowenko, FHWA Office of Program Administration, (202) 366-1562, or via email at gerald.yakowenko@dot.gov. For legal questions, please contact Mr. William Winne, FHWA Office of the Chief Counsel, 202-366-1397, or via email at William.Winne@dot.gov. Office hours for the FHWA are from 8:00 a.m. to 4:30 p.m., E.T., Monday through Friday, except Federal holidays.

SUPPLEMENTARY INFORMATION:

Electronic Access

An electronic copy of this document may be downloaded from the Federal Register's home page at: http://www.archives.gov and the Government Publishing Office's database at: https://www.gpo.gov/fdsys/.

Background

The FHWA's Buy America policy in 23 CFR 635.410 requires a domestic manufacturing process for any steel or iron products (including protective coatings) that are permanently incorporated in a Federal-aid construction project. The regulation also provides for a waiver of the Buy America requirements when the application would be inconsistent with the public interest or when satisfactory quality domestic steel and iron products are not sufficiently available. This notice provides information regarding FHWA's finding that a Buy America waiver is appropriate for use of non-domestic iron and steel components in four rolling element bearing units with 17.3″ inner diameter and radial load capacity of 816,000 lb. each for I-5 trunnion shaft replacement project in the State of Oregon.

In accordance with the Consolidated Appropriations Act of 2016 (Pub. L. 114-113) and the Continuing Appropriations Act of 2017 (Pub. L. 114-223), FHWA published a notice of intent to issue a waiver on its Web site: http://www.fhwa.dot.gov/construction/contracts/waivers.cfm?id=132 on August 8, 2016. The FHWA received a few comments in response to the publication. Six commenters opposed the waiver for various reasons; granting the waiver will result in supporting jobs overseas, outsourcing domestic jobs, and loss of manufacturing jobs. None of the commenters provided information on domestic availability of the four rolling element bearing units with 17.3″ inner diameter and radial load capacity of 816,000 lb. Based on all the information available to the agency, FHWA concludes that there are no domestic manufacturers of four rolling element bearing units with 17.3″ inner diameter and radial load capacity of 816,000 lb for I-5 trunnion shaft replacement project.

The Oregon State DOT, contractors, and subcontractors involved in the procurement of bearing units, are reminded of the need to comply with the Cargo Preference Act in 46 CFR part 38, if applicable.

In accordance with the provisions of section 117 of the SAFETEA-LU Technical Corrections Act of 2008 (Pub. L. 110-244, 122 Stat. 1572), FHWA is providing this notice as its finding that a waiver of Buy America requirements is appropriate. The FHWA invites public comment on this finding for an additional 15 days following the effective date of the finding. Comments may be submitted to FHWA's Web site via the link provided to the waiver page noted above.

Authority: 23 U.S.C. 313; Pub. L. 110-161, 23 CFR 635.410.

Issued on: November 14, 2016.
Gregory G. Nadeau,
Administrator, Federal Highway Administration.

[FR Doc. 2016-27928 Filed 11-18-16; 8:45 am]

BILLING CODE 4910-22-P